ENVIRONMENTAL PROTECTION AGENCY

[FRL-9932-66-OA]

Notification of Public Teleconferences of the Science Advisory Board Radiation Advisory Committee

AGENCY: Environmental Protection Agency (EPA).

ACTION: Notice.

SUMMARY: The Environmental Protection Agency (EPA) Science Advisory Board (SAB) Staff Office announces two public teleconferences of the Radiation Advisory Committee (RAC) to receive a briefing about the agency's Advance Notice of Proposed Rulemaking (ANPRM) to consider revising the Environmental Radiation Protection Standards for Nuclear Power Operations (40 CFR part 190).

DATES: The public teleconferences will be held from 12:00 p.m. to 5:00 p.m. (Eastern Time) on the following dates: November 10, 2015, and November 13, 2015.

ADDRESSES: The teleconferences will be conducted by telephone only.

FOR FURTHER INFORMATION CONTACT: Any member of the public who wants further information concerning these public teleconferences may contact Mr. Edward Hanlon, Designated Federal Officer (DFO) for the Radiation Advisory Committee, EPA Science Advisory Board Staff Office (1400R), U.S. Environmental Protection Agency, 1200 Pennsylvania Avenue NW., Washington, DC 20460; by telephone at (202) 564-2134 or via email at hanlon.edward@epa.gov. General information concerning the EPA SAB can be found at http://www.epa.gov/sab.

SUPPLEMENTARY INFORMATION:

Background: The SAB was established pursuant to the Environmental Research, Development, and Demonstration Authorization Act (ERDDAA), codified at 42 U.S.C. 4365, to provide independent scientific and technical advice to the Administrator on the technical basis for Agency positions and regulations. The SAB is a federal advisory committee chartered under the Federal Advisory Committee Act (FACA), 5 U.S.C., App. 2. The SAB will comply with the provisions of FACA and all appropriate SAB Staff Office procedural policies. Pursuant to FACA and EPA policy, notice is hereby given that the SAB Radiation Advisory Committee will hold two public teleconferences to learn about the agency's ANPRM to consider revising the Environmental Radiation Protection Standards for Nuclear Power Operations (40 CFR part 190). The Committee will comply with the provisions of FACA and all appropriate SAB Staff Office procedural policies.

EPA's Office of Air and Radiation requested an opportunity to brief the SAB Radiation Advisory Committee on the agency's ANPRM to consider revising the Environmental Radiation Protection Standards for Nuclear Power Operations (40 CFR part 190), which was released for public review and comment on February 4, 2014 (79 FR 6509). The briefing will help to inform the Committee in preparation for a later consultation, where the SAB will provide early advice for the agency's consideration on technical issues associated with standards for radiation dose to the public from normal operation of nuclear power plants and other uranium fuel cycle facilities. The purpose of the teleconference on November 10, 2015 is for EPA to brief the Committee about the agency's ANPRM and for the public to provide comments for the Committee's consideration regarding the ANPRM. If all oral comments from registered public speakers cannot be accommodated at the November 10, 2015 teleconference, an additional teleconference will be held on November 13, 2015 for that purpose. Additional information about this SAB activity can be found at the following URL http://yosemite.epa.gov/sab/sabproduct.nsf/fedrgstr_activites/40%20CFR%20190?OpenDocument.

Technical Contacts: Any technical questions concerning EPA's ANPRM to consider revising the Environmental Radiation Protection Standards for Nuclear Power Operations (40 CFR part 190) should be directed to Mr. Brian Littleton in the EPA Office of Air and Radiation, by telephone at (202) 343-9216 or by email at littleton.brian@epa.gov.

Availability of Teleconference Materials: Prior to the teleconference, the agenda and other materials will be accessible through the calendar link on the blue navigation bar at http://www.epa.gov/sab/. Materials may also be accessed at the URL provided above.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Interested members of the public may submit relevant information on the topic of this advisory activity, and/or the group conducting the activity, for the SAB to consider during the advisory process. Input from the public to the SAB will have the most impact if it provides specific scientific or technical information or analysis for SAB committees and panels to consider or if it relates to the clarity or accuracy of the technical information. Members of the public wishing to provide comment should contact the DFO directly.

Oral Statements: In general, individuals or groups requesting an oral presentation at the teleconferences will be limited to three minutes. Interested parties wishing to provide comments should contact Mr. Hanlon, DFO, in writing (preferably via email) at the contact information noted above by November 3, 2015, to be placed on the list of public speakers for the teleconference. Written Statements: Written statements will be accepted throughout the advisory process; however, for timely consideration by Committee members, statements should be supplied to the DFO (preferably via email) at the contact information noted above by November 3, 2015. It is the SAB Staff Office general policy to post written comments on the Web page for advisory meetings. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Mr. Hanlon at the contact information provided above. To request accommodation of a disability, please contact Mr. Hanlon preferably at least ten days prior to the teleconferences to give EPA as much time as possible to process your request.

Dated: August 7, 2015.
Thomas H. Brennan,
Deputy Director, EPA Science Advisory Board Staff Office.

[FR Doc. 2015-20498 Filed 8-18-15; 8:45 am]

BILLING CODE 6560-50-P